DEPARTMENT OF TRANSPORTATION

Federal Aviation Administration

[Summary Notice No. PE-2002-10]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains the dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Sandy Buchanan-Sumter (202) 267-7271, Denise Emrick (202) 267-5174, Forest Rawls (202) 267-8033, or Vanessa Wilkins (202) 267-8029, Office of Rulemaking (ARM-1), Federal Aviation Administration, 800 Independence Avenue, SW., Washington, DC 20591.

This notice is published pursuant to 14 CFR 11.85 and 11.91.

Issued in Washington, D.C., on February 8, 2002.
Donald P. Byrne,
Assistant Chief Counsel for Regulations.

Dispositions of Petitions

Docket No.: FAA-2001-8744.

Petitioner: Evergreen International Airlines, Inc.

Section of 14 CFR Affected: 14 CFR 91.315, 119.5(g), and 119.21(a)

Description of Relief Sought/Disposition: To permit Evergreen Air Venture Museum to operate its Boeing B-17G for the purpose of carrying passengers for compensation or hire on local flights for educational and historical purposes. Grant, 01/25/2002, Exemption No. 6632C

Docket No.: FAA-2001-11089.

Petitioner: The Collings Foundation.

Section of 14 CFR Affected: 14 CFR 91.315, 91.319(a), 119.5(g), and 119.21(a).

Description of Relief Sought/Disposition: To permit the Collings Foundation to operate its Boeing B-17, which is certificated in the limited category, and its Consolidated B-24, which is certificated in the experimental category, for the purpose of carrying passengers on local flights for compensation or hire. Grant, 01/25/2002, Exemption No. 6540E

Docket No.: FAA-2001-10384.

Petitioner: Weary Warriors Squadron.

Section of 14 CFR Affected: 14 CFR 91.315, 119.5(g), and 119.21(a)

Description of Relief Sought/Disposition: To permit Weary Warriors Squadron to operate its North American B-25 for the purpose of carrying passengers for compensation or hire on local flights for educational and historical purposes. Grant, 01/25/2002, Exemption No. 6786C

Docket No.: FAA-2001-10876.

Petitioner: Experimental Aircraft Association, Inc.

Section of 14 CFR Affected: 14 CFR 91.315, 119.5(g), and 119.21(a)

Description of Relief Sought/Disposition: To permit EAA to operate its Boeing B-17 for the purpose of carrying passengers for compensation or hire on local flights for educational and historical purposes. Grant, 01/25/2002, Exemption No. 6541D

Docket No.: FAA-2000-8468.

Petitioner: Yankee Air Force, Inc.

Section of 14 CFR Affected: 14 CFR 91.315, 119.5(g), and 119.21(a).

Description of Relief Sought/Disposition: To permit Yankee Air Force to operate its Boeing B-17 for the purpose of carrying passengers for compensation or hire on local flights for educational and historical purposes. Grant, 01/25/2002, Exemption No. 6631C

Docket No.: FAA-2000-8462.

Petitioner: National Warplane Museum.

Section of 14 CFR Affected: 14 CFR 91.315, 119.5(g) and 119.21(a)

Description of Relief Sought/Disposition: To permit National Warplane Museum to operate its Boeing B-17 for the purpose of carrying passengers for compensation or hire on local flights for educational and historical purposes. Grant, 01/25/2002, Exemption No. 7474A

Docket No.: FAA-2002-11286.

Petitioner: Vintage Flying Museum.

Section of 14 CFR Affected: 14 CFR 91.315, 119.5(g), and 119.21(a)

Description of Relief Sought/Disposition: To permit Vintage Flying Museum to operate its Boeing B-17G for the purpose of carrying passengers for compensation or hire on local flights for educational and historical purposes. Grant, 01/25/2002, Exemption No. 7411A

Docket No.: FAA-2001-11190.

Petitioner: Mr. Roger Thompson.

Section of 14 CFR Affected: 14 CFR 135.251, 135.255, and 135.353, and appendixes I and J to part 121.

Description of Relief Sought/Disposition: To permit Mr. Roger Thompson to conduct local sightseeing flights at Capital Airport in Springfield, Illinois, for the Charlie Wells Memorial Aviation Scholarship on April 27, and 28, 2002, for compensation or hire, without complying with certain anti-drug and alcohol misuse prevention requirements of part 135. Grant, 01/18/2002, Exemption No. 7702

Docket No.: FAA-2002-11300.

Petitioner: Lt. Colonel Leslie E. Smith.

Section of 14 CFR Affected: 14 CFR 121.383(c).

Description of Relief Sought/Disposition: To permit Lt. Colonel Smith to act as a pilot in operations conducted under part 121 after turning age 60. Denial, 01/25/2002, Exemption No. 7700

Docket No.: FAA-2002-11297.

Petitioner: Roessel Aviation, Inc.

Section of 14 CFR Affected: 14 CFR 135.143(c)(2).

Description of Relief Sought/Disposition: To permit Roessel Aviation to operate certain aircraft under part 135 without a TSO-C112 (Mode S) transponder installed in the aircraft. Grant, 01/18/2002, Exemption No. 7701

Docket No.: FAA-2002-11432.

Petitioner: Aviation Ventures, Inc., dba Vision Air.

Section of 14 CFR Affected: 14 CFR 135.152(a).

Description of Relief Sought/Disposition: To permit Vision Air to operate up to 10 Dornier 228 airplanes under part 135 without those airplanes being equipped with the required digital flight data recorder. Grant, 01/30/2002, Exemption No. 7009B

Docket No.: FAA-2002-10357.

Petitioner: Executive Aviation Logistics.

Section of 14 CFR Affected: 14 CFR 135.152.

Description of Relief Sought/Disposition: To permit EAL to operate its 1975 Gulfstream G-1159 (G-1159; previously referred to as the Gulfstream American Gulfstream II) airplane (serial No. 173) under part 135 without the airplane being equipped with an approved digital flight data recorder. Grant, 01/25/2002, Exemption No. 7643A

Docket No.: FAA-2002-11056.

Petitioner: Era Aviation.

Section of 14 CFR Affected: 14 CFR 121.356(b).

Description of Relief Sought/Disposition: To permit Era to operate two Douglas DC-3 airplanes under part 121 passenger-carrying operations without those airplanes being equipped with a Traffic Alert and Collision Avoidance System. Grant, 01/25/2002, Exemption No. 6765A

Docket No.: FAA-2002-11284.

Petitioner: Tulsa Air & Space Center Airshows, Inc.

Section of 14 CFR Affected: 14 CFR 91.315, 119.5(g), and 119.2(a).

Description of Relief Sought/Disposition: To permit Tulsa Air & Space to operate its North American B-25 for the purpose of carrying passengers for compensation or hire on local flights for educational and historical purposes. Grant, 01/25/2002, Exemption No. 7126A

Docket No.: FAA-2002-11285.

Petitioner: Commemorative Air Force, Inc.

Section of 14 CFR Affected: 14 CFR 91.315, 91.319(a), 119.5(g), and 119.21(a).

Description of Relief Sought/Disposition: To permit Commemorative Air Force to operate its fleet of former U.S. military airplanes (those listed in Condition No. 24) for the purpose of carrying passengers for compensation or hire on local flights for educational and historical purposes. Grant, 01/25/2002, Exemption No. 6802B

[FR Doc. 02-3531 Filed 2-12-02; 8:45 am]

BILLING CODE 4910-31-M